FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Interagency Biographical and Financial Report; (2) Suspicious Activity Report; and (3) External Audits.

DATES: Comments must be submitted on or before October 29, 2002.

ADDRESSES: Interested parties are invited to submit written comments to Tamara R. Manly, Management Analyst (Consumer and Compliance Unit), (202) 898-7453, Legal Division, Room MB-3109, Attention: Comments/Legal, Federal Deposit Insurance Corporation, 550 17th Street NW., Washington, DC 20429. All comments should refer to the OMB control number. Comments may be hand-delivered to the guard station at the rear of the 17th Street Building (located on F Street), on business days between 7 a.m. and 5 p.m. [FAX number (202) 898-3838; Internet address: comments @ fdic.gov].

A copy of the comments may also be submitted to the OMB desk officer for the FDIC: Joseph Lackey, Office of Information and Regulatory Affairs, Office of Management and Budget, New Executive Office Building, Room 10236, Washington, DC 20503.

FOR FURTHER INFORMATION CONTACT: Tamara R. Manly, at the address identified above.

SUPPLEMENTARY INFORMATION: Proposal to renew the following currently approved collections of information:

1. Title: Interagency Biographical and Financial Report.

OMB Number: 3064-0006.

Frequency of Response: On occasion.

Affected Public: All financial institutions.

Estimated Number of Respondents: 2,040.

Estimated Time per Response: 4 hours.

Total Annual Burden: 8,160 hours.

General Description of Collection: The Interagency Biographical and Financial Report is submitted to the FDIC by each individual director or officer of a proposed or operating financial institution applying for federal deposit insurance as a state nonmember bank. The information is used by the FDIC to evaluate the general character of bank management as required by the Federal Deposit Insurance Act.

2. Title: Suspicious Activity Report.

OMB Number: 3064-0077.

Form Number: 6710/06.

Frequency of Response: On occasion.

Affected Public: Business, for-profit institutions, and non-profit institutions.

Estimated Number of Respondents: 6,500.

Estimated Time per Response: .60 hours.

Total Annual Burden: 3,900 hours.

General Description of Collection: Part 353 of the FDIC's rules and regulations requires insured nonmember banks to report to the appropriate investigatory and prosecuting authorities and to the FDIC, on a prescribed form, criminal violations of the U.S. Code that involve or affect the banks' affairs.

3. Title: External Audits.

OMB Number: 3064-0113.

Frequency of Response: On occasion.

Affected Public: All financial institutions.

Estimated Number of Responses (insured institutions with assets of $500 million or more and insured institutions with assets less than $500 million): 17,694.

Estimated Time per Response: insured institutions with assets of $500 million or more—32 hours ; insured institutions with assets less than $500 million—3/4 hours.

Total Annual Burden: 44,430 hours.

General Description of Collection: Section 36 of the Federal Deposit Insurance Act imposes auditing and reporting requirements on insured depository institutions which have total assets of $500 million or more. An interagency policy statement extended those requirements on a voluntary basis to institutions with less than $500 million.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 27th day of August, 2002.
Federal Deposit Insurance Corporation.
Robert E. Feldman,
Executive Secretary.

[FR Doc. 02-22281 Filed 8-29-02; 8:45 am]

BILLING CODE 6714-01-P